SMALL BUSINESS ADMINISTRATION

[Declaration of Disaster #P019]

State of Maine

As a result of the President's major disaster declaration for Public Assistance on February 5, 2004 the U.S. Small Business Administration is activating its disaster loan program only for private non-profit organizations that provide essential services of a governmental nature. I find that Franklin, Kennebec, Oxford, Piscataquis, Somerset and Waldo Counties in the State of Maine constitute a disaster area due to damages caused by severe storms, flooding, snow melt and ice jams occurring on December 10, 2003 and continuing through December 31, 2003. Applications for loans for physical damage as a result of this disaster may be filed until the close of business on April 5, 2004 at the address listed below or other locally announced locations: Small Business Administration, Disaster Area 1 Office, 360 Rainbow Blvd., South, 3rd Floor, Niagara Falls, NY 14303.

The interest rates are:

| Percent
For Physical Damage:
Non-Profit Organizations Without Credit Available Elsewhere | 3.061
Non-Profit Organizations With Credit Available Elsewhere | 4.875

The number assigned to this disaster for physical damage is P01911.

(Catalog of Federal Domestic Assistance Program Nos. 59008)
Dated: February 9, 2004.
Herbert L. Mitchell,
Associate Administrator for Disaster Assistance.

[FR Doc. 04-3374 Filed 2-13-04; 8:45 am]

BILLING CODE 8025-01-P